DEPARTMENT OF THE INTERIOR

Fish and Wildlife Service

50 CFR Part 17

RIN 1018-AG71

Endangered and Threatened Wildlife and Plants; Revised Determinations of Prudency and Proposed Designations of Critical Habitat for Plant Species From the Islands of Kauai and Niihau, Hawaii; Correction

AGENCY: Fish and Wildlife Service, Interior.

ACTION: Revised proposed rule and notice of determinations of whether designation of critical habitat is prudent; Correction.

SUMMARY: A document containing the revised determinations of prudency and proposed designations of critical habitat for plant species from the islands of Kauai and Niihau, Hawaii was published in the Federal Register on January 28, 2002. Within the preamble, the third reference to the hearing date is incorrect. The correct hearing date is February 13, 2002. This document corrects the hearing date.

DATES: We will accept comments until March 29, 2002. We will hold one public hearing on this proposed rule. The public hearing will be held from 6:00 p.m. to 8:00 p.m., Wednesday, February 13, 2002, on the island of Kauai, Hawaii. Prior to the public hearing, we will be available from 3:30 to 4:30 p.m. to provide information and to answer questions. Registration for the hearing will begin at 5:30 p.m.

ADDRESSES: If you wish to comment, you may submit your comments and materials concerning this proposal by any one of several methods:

You may submit written comments and information to the Field Supervisor, U.S. Fish and Wildlife Service, Pacific Islands Office, 300 Ala Moana Blvd., Room 3-122, PO Box 50088, Honolulu, HI 96850-0001.

You may hand-deliver written comments to our Pacific Islands Office at the address given above.

You may view comments and materials received, as well as supporting documentation used in the preparation of this proposed rule, by appointment, during normal business hours at the above address. The public hearing will be held at the Radisson Kauai Beach Resort, 4331 Kauai Beach Drive, Lihue, Kauai. Additional information on this hearing can be found under “Public Hearing” found in the Background section of this proposed rule.

FOR FURTHER INFORMATION CONTACT: Paul Henson, Field Supervisor, Pacific Islands Office, at the above address (telephone 808/541-3441; facsimile 808/541-3470).

SUPPLEMENTARY INFORMATION: On January 28, 2002, the U.S. Fish and Wildlife Service (Service) published revised determinations of prudency and proposed designations of critical habitat for plant species from the islands of Kauai and Niihau, Hawaii (67 FR 3940).

Correction

Accordingly, make the following correction to FR Doc. 02-687 published at 67 FR 3940 on January 28, 2002:

On page 4062, in column 2, Public Hearing Section, third paragraph, correct the public hearing date to read: Wednesday, February 13, 2002.

Dated: February 4, 2002.
Joseph E. Doddridge,
Assistant Secretary for Fish and Wildlife and Parks.

[FR Doc. 02-3223 Filed 2-8-02; 8:45 am]

BILLING CODE 4310-55-P